DEPARTMENT OF ENERGY

Federal Energy Regulatory Commission

Notice of Commissioner and Staff Attendance at North American Electric Reliability Corporation Meetings

The Federal Energy Regulatory Commission (Commission) hereby gives notice that members of the Commission and/or Commission staff may attend the following meetings:

North American Electric Reliability Corporation, Member Representatives Committee and Board of Trustees Meetings, Board of Trustees Corporate Governance and Human Resources Committee, Finance and Audit Committee, Compliance Committee, and Standards Oversight and Technology Committee Meetings

The Ritz Carlton Toronto, 181 Wellington Street West, Toronto, ON M5V 3G7

August 12 (7:30 a.m.-5:00 p.m.) and August 13 (8:30 a.m.-12:00 p.m.), 2015

Further information regarding these meetings may be found at: http://www.nerc.com/Pages/Calendar.aspx.

The discussions at the meetings, which are open to the public, may address matters at issue in the following Commission proceedings:

Docket No. RR15-4, North American Electric Reliability Corporation

Docket No. RR15-12, North American Electric Reliability Corporation

Docket Nos. RD14-14, RD15-3, RD15-5, North American Electric Reliability Corporation

For further information, please contact Jonathan First, 202-502-8529, or jonathan.first@ferc.gov.

Dated: July 30, 2015.
Kimberly D. Bose,
Secretary.

[FR Doc. 2015-19206 Filed 8-4-15; 8:45 am]

BILLING CODE 6717-01-P